DEPARTMENT OF THE INTERIOR

Office of the Secretary

[156D0102DM DLSN00000.000000 DS61200000 DX61201]

Agency Information Collection Activities: Renewal; Comment Request; OMB ID 1090-0011—DOI Generic Clearance for the Collection of Qualitative Feedback on Agency Service Delivery

AGENCY: Department of the Interior.

ACTION: 30-Day notice of submission of information collection to the Office of Management and Budget and request for public comments.

SUMMARY: As part of a Federal Government-wide effort to streamline the process to seek feedback from the public on service delivery, the U.S. Department of the Interior has submitted a Generic Information Collection Request (Generic ICR): “DOI Generic Clearance for the Collection of Qualitative Feedback on Agency Service Delivery” to OMB for approval under the Paperwork Reduction Act (PRA) (44 U.S.C. 3501 et. seq.).

DATES: Comments must be submitted by July 29, 2015.

ADDRESSES: Written comments may be submitted to the Desk Officer for the Department of the Interior (OMB control #1090-0011) at the Office of Management and Budget (OMB) via email to OIRA_Submission@omb.eop.gov or via facsimile (202) 395-5806. Please also send a copy of your comments to Don Bieniewicz at DOI via email at Donald_Bieniewicz@ios.doi.gov or via facsimile (202) 208-4867. Reference “DOI Generic Clearance for the Collection of Qualitative Feedback on Agency Service Delivery” in your email subject line. Include your name and return address in your email message and mark your message for return receipt.

FOR FURTHER INFORMATION CONTACT: Don Bieniewicz (202) 208-4915. You may also review the generic ICR online at http://www.reginfo.gov/public/do/PRAMain. Follow the instructions to review Department of the Interior collections under review by OMB.

SUPPLEMENTARY INFORMATION:

I. Abstract

The information collection activity will garner qualitative customer and stakeholder feedback in an efficient, timely manner, in accordance with the Administration's commitment to improving service delivery. By qualitative feedback we mean information that provides useful insights on perceptions and opinions, but are not statistical surveys that yield quantitative results that can be generalized to the population of study. This feedback will provide insights into customer or stakeholder perceptions, experiences and expectations, provide an early warning of issues with service, or focus attention on areas where communication, training or changes in operations might improve delivery of products or services. These collections will allow for ongoing, collaborative and actionable communications between the Agency and its customers and stakeholders. It will also allow feedback to contribute directly to the improvement of program management.

Feedback collected under this generic clearance will provide useful information, but it will not yield data that can be generalized to the overall population. This type of generic clearance for qualitative information will not be used for quantitative information collections that are designed to yield reliably actionable results, such as monitoring trends over time or documenting program performance. Such data uses require more rigorous designs that address: The target population to which generalizations will be made, the sampling frame, the sample design (including stratification and clustering), the precision requirements or power calculations that justify the proposed sample size, the expected response rate, methods for assessing potential non-response bias, the protocols for data collection, and any testing procedures that were or will be undertaken prior fielding the study. Depending on the degree of influence the results are likely to have, such collections may still be eligible for submission for other generic mechanisms that are designed to yield quantitative results.

II. Data

Title: DOI Generic Clearance for the Collection of Qualitative Feedback on Agency Service Delivery.

OMB Control Number: 1090-0011.

Type of Review: Information Collection Renewal.

Affected Public: Individuals and Households, Businesses and Organizations, State, Local or Tribal Government.

Expected Annual Number of Activities: 100.

Annual Respondents: 11,000 for surveys, 6,000 for comment cards, 500 for focus groups.

Frequency of Response: Once per request.

Annual Responses: 11,000 for surveys, 6,000 for comment cards, 500 for focus groups.

Estimated Average Time per Response: 15 minutes for surveys, 2 minutes for comment cards, 2 hours for focus groups.

Estimated Total Annual Burden Hours: 3,950.

III. Request for Comments

No comments were received in response to the 60-day notice published in the Federal Register on March 18, 2015 (80 FR 14158). We again request public comments on this proposed information collection. Your comments should address: (a) The necessity of the information collection for the proper performance of the agency, including whether the information will have practical utility; (b) the accuracy of our estimate of the burden; (c) ways we could enhance the quality, utility, and clarity of the information to be collected; and (d) ways we could minimize the burden of the collection on the respondents, such as through the use of automated collection techniques or other information technology.

A federal agency may not conduct or sponsor, and a person is not required to respond to, a collection of information unless it displays a currently valid Office of Management and Budget control number.

Dated: June 23, 2015.
Benjamin Simon,
Assistant Director, Office of Policy Analysis, U.S. Department of the Interior.

[FR Doc. 2015-15827 Filed 6-26-15; 8:45 am]

BILLING CODE 4334-63-P